DEPARTMENT OF TRANSPORTATION

Federal Aviation Administration

14 CFR Part 39

[Docket No. FAA-2004-19531; Directorate Identifier 2004-NM-45-AD; Amendment 39-14088; AD 2005-10-11]

RIN 2120-AA64

Airworthiness Directives; Boeing Model 737-300, -400, and -500 Series Airplanes

AGENCY: Federal Aviation Administration (FAA), Department of Transportation (DOT).

ACTION: Final rule.

SUMMARY: The FAA is superseding an existing airworthiness directive (AD), which applies to all Boeing Model 737-300, -400, and -500 series airplanes. That AD currently requires repetitive inspections of certain connectors located in the main wheel well to detect discrepancies, and corrective action if necessary. This new AD instead mandates a modification. This AD is prompted by the development of a modification intended to address the unsafe condition. We are issuing this AD to prevent discrepancies of certain connectors located in the main wheel well. Those discrepancies could result in electrical arcing of the connectors, uncommanded closure of the engine fuel shut-off valves, and consequent in-flight loss of thrust or engine shutdown from lack of fuel.

DATES: This AD becomes effective June 22, 2005.

The incorporation by reference of a certain publication, as listed in the AD, is approved by the Director of the Federal Register as of June 22, 2005.

ADDRESSES: For service information identified in this AD, contact Boeing Commercial Airplanes, P.O. Box 3707, Seattle, Washington 98124-2207.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19531; the directorate identifier for this docket is 2004-NM-45-AD.

FOR FURTHER INFORMATION CONTACT: Stephen Oshiro, Aerospace Engineer, Systems and Equipment Branch, ANM-130S, FAA, Seattle Aircraft Certification Office, 1601 Lind Avenue, SW., Renton, Washington 98055-4056; telephone (425) 917-6480; fax (425) 917-6590.

SUPPLEMENTARY INFORMATION: The FAA proposed to amend part 39 of the Federal Aviation Regulations (14 CFR part 39) with an AD to supersede AD 2001-14-06, amendment 39-12316 (66 FR 36445, July 12, 2001). The existing AD applies to all Boeing Model 737-300, -400, and -500 series airplanes. The proposed AD was published in the Federal Register on November 5, 2004 (69 FR 64539), to mandate a modification of the electrical connectors located in the main wheel well.

Comments

We provided the public the opportunity to participate in the development of this AD. We have considered the comments that have been submitted on the proposed AD. One commenter, the airplane manufacturer, concurs with the contents of the proposed AD.

Request to Change Preamble

One commenter states that the wrong AD number is referenced in the “Differences Between Proposed AD and Service Bulletin” section in the preamble of the proposed AD. The commenter notes that AD 2001-14-16 was referenced, but the correct AD number is AD 2001-14-06.

We acknowledge and agree with the commenter's remarks, in that there was a typographical error in the referenced section of the preamble of the proposed AD; however, that section is not restated in this final rule.

Observation on Costs of Compliance Section

One commenter states that the modification identified in Boeing Special Attention Service Bulletin 737-28-1196, Revision 3, dated April 1, 2004 (referenced as the appropriate source of service information for accomplishing the proposed modification), has been accomplished on all of its Model 737-300 and -500 series airplanes. The commenter adds that the Accomplishment Instructions in the service bulletin specify approximately 15 man hours or 10 elapsed hours per airplane (including the operational tests) for accomplishing the modification, which is the amount of time the commenter used to accomplish the modification. The commenter does not provide a specific request.

Conclusion

We have carefully reviewed the available data, including the comments that have been submitted, and determined that air safety and the public interest require adopting the AD as proposed.

Costs of Compliance

There are about 1,974 Model 737-300, -400, and -500 airplanes worldwide of the affected design. This AD affects about 755 airplanes of U.S. registry.

The new modification (including the operational tests) takes about 9 work hours per airplane, at an average labor rate of $65 per work hour. Required parts cost is minimal. Based on these figures, the estimated cost of the modification specified in this AD for U.S. operators is $441,675, or $585 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12316 (66 FR 36445, July 12, 2001) and by adding the following new airworthiness directive (AD):

2005-10-11 Boeing: Amendment 39-14088. Docket No. FAA-2004-19531; Directorate Identifier 2004-NM-45-AD.

Effective Date

(a) This AD becomes effective June 22, 2005.

Affected ADs

(b) This AD supersedes AD 2001-14-06, amendment 39-12316.

Applicability

(c) This AD applies to all Boeing Model 737-300, -400, and -500 series airplanes, certificated in any category.

Unsafe Condition

(d) This AD was prompted by the development of a modification intended to address the unsafe condition. We are issuing this AD to detect and correct discrepancies of certain connectors located in the main wheel well. Those discrepancies could result in electrical arcing of the connectors, uncommanded closure of the engine fuel shut-off valves, and consequent in-flight loss of thrust or engine shutdown from lack of fuel.

Compliance

(e) You are responsible for having the actions required by this AD performed within the compliance times specified, unless the actions have already been done.

Modification

(f) At the applicable time specified in paragraph (f)(1) or (f)(2) of this AD: Modify the electrical connectors located in the main wheel well by doing all the actions in accordance with the Accomplishment Instructions of Boeing Special Attention Service Bulletin 737-28-1196, Revision 3, dated April 1, 2004. Any corrective action must be done before further flight in accordance with the service bulletin.

(1) For airplanes on which no inspection required by AD 2001-14-06 has been done as of the effective date of this AD: Accomplish the modification within 12 months after the effective date of this AD.

(2) For airplanes on which any inspection required by AD 2001-14-06 has been done as of the effective date of this AD: Accomplish the modification at the later of the times specified in paragraph (f)(2)(i) or (f)(2)(ii) of this AD.

(i) Within 18 months after accomplishing the last inspection.

(ii) Within 6 months after the effective date of this AD.

Modifications Done Using Previous Issues of the Service Bulletin

(g) Modifications done before the effective date of this AD in accordance with Boeing Special Attention Service Bulletin 737-28-1196, dated December 5, 2002; Revision 1, dated March 13, 2003; or Revision 2, dated August 21, 2003; are considered acceptable for compliance with paragraph (f) of this AD.

Alternative Methods of Compliance (AMOCs)

(h)(1) The Manager, Seattle Aircraft Certification Office (ACO), FAA, has the authority to approve AMOCs for this AD, if requested in accordance with the procedures found in 14 CFR 39.19.

(2) Alternative methods of compliance, approved previously in accordance with AD 2001-14-06, amendment 39-12316, are approved as AMOCs for this AD.

Material Incorporated by Reference

(i) You must use Boeing Special Attention Service Bulletin 737-28-1196, Revision 3, dated April 1, 2004, to perform the actions that are required by this AD, unless the AD specifies otherwise. The Director of the Federal Register approves the incorporation by reference of this document in accordance with 5 U.S.C. 552(a) and 1 CFR part 51. To get copies of the service information, contact Boeing Commercial Airplanes, P.O. Box 3707, Seattle, Washington 98124-2207. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on May 9, 2005.
Jeffrey E. Duven,
Acting Manager, Transport Airplane Directorate, Aircraft Certification Service.

[FR Doc. 05-9659 Filed 5-17-05; 8:45 am]

BILLING CODE 4910-13-P